DEPARTMENT OF HEALTH AND HUMAN SERVICES

National Institutes of Health

National Human Genome Research Institute; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Human Genome Research Institute Special Emphasis Panel; SBIR—STTR.

Date: April 4, 2025.

Time: 10:00 a.m. to 6:00 p.m.

Agenda: To review and evaluate grant applications.

Meeting Format: Video Assisted Meeting.

Address: National Human Genome Research Institute, National Institutes of Health, 6700B Rockledge Drive, Suite 3000, Bethesda, MD 20892.

Contact Person: Victoriya Volkova, DVM, Ph.D., National Human Genome Research Institute, National Institutes of Health, 6700B Rockledge Drive, Bethesda, MD 20892, 240-762-2444, email: Victoriya.volkova@nih.gov.

Name of Committee: National Human Genome Research Institute Special Emphasis Panel; Ethical, Legal, and Social Implications (ELSI).

Date: April 4, 2025.

Time: 11:00 a.m. to 3:00 p.m.

Agenda: To review and evaluate grant applications.

Meeting Format: Virtual Meeting.

Address: National Human Genome Research Institute, National Institutes of Health, 6700B Rockledge Drive, Suite 3000, Bethesda, MD 20892.

Contact Person: Keith McKenney, Ph.D., Scientific Review Officer, National Human Genome Research Institute, National Institutes of Health, 6700B Rockledge Drive, Suite 3000, Bethesda, MD 20892, (301) 594-4280, email: mckenneyk@mail.nih.gov.

(Catalogue of Federal Domestic Assistance Program Nos. 93.172, Human Genome Research, National Institutes of Health, HHS)

Dated: March 13, 2025.
Bruce A. George,
Program Analyst, Office of Federal Advisory Committee Policy.

[FR Doc. 2025-04422 Filed 3-17-25; 8:45 am]

BILLING CODE 4140-01-P